DEPARTMENT OF DEFENSE

Office of the Secretary

Submission for OMB Review; Comment Request

AGENCY: Office of the Secretary, DoD.

ACTION: Notice.

The Department of Defense has submitted to OMB for clearance, the following proposal for collection of information under the provisions of the Paperwork Reduction Act (44 U.S.C. chapter 35).

DATES: Consideration will be given to all comments received by July 30, 2004.

Title, Forms, and OMB Number: Department of Defense Security Agreement, Appendage to Department of Defense Security Agreement, Certificate Pertaining to Foreign Interests; DD Forms 441, 441-1 and SF Form 328; OMB Number 0704-0194.

Type of Request: Extension.

Number of Respondents: 3,070.

Responses Per Respondent: 2.

Annual Responses: 6,140.

Average Burden Per Response: 1.5 hours.

Annual Burden Hours: 9,108.

Needs and Uses: Executive Order 12829, “National Industrial Security Program (NISP),” stipulates that the Secretary of Defense shall serve as the Executive Agent for inspecting and monitoring contractors, licensees, and grantees, who require or will require access to or will store classified information; for determining the eligibility for access to classified information of contractors, licensees, and grantees and their respective employees. The specific requirements necessary to protect classified information released to private industry are set forth in DoD 5200.22M, “National Industrial Security Program Operating Manual (NISPOM).” DD Form 441 is the initial contract between industry and the government. The DD Form 441-1 is used to extend the agreements to branch offices of the contractor. The SF Form 328 must be submitted to provide certification regarding elements of Foreign Ownership, Control or Influence (FOCI).

Affected Public: Business or Other For-Profit; Not-For-Profit Institutions; State, Local or Tribal Government.

Frequency: On Occasion.

Respondents Obligation: Required to Obtain or Retain Benefits.

OMB Desk Officer: Ms. Jacqueline Zeiher.

Written comments and recommendations on the proposed information collection should be sent to Ms. Zeiher at the Office of Management and Budget, Desk Officer for DoD, Room 10236, New Executive Office Building, Washington, DC 20503.

DoD Clearance Officer: Mr. Robert Cushing.

Written requests for copies of the information collection proposal should be sent to Mr. Cushing, WHS/ESCD/Information Management Division, 1225 South Clark Street, Suite 504, Arlington, VA 22202-4326.

Dated: June 24, 2004.
L.M. Bynum,
Alternate OSD Federal Register Liaison Officer, Department of Defense.

[FR Doc. 04-14728 Filed 6-29-04; 8:45 am]

BILLING CODE 5001-06-M